DEPARTMENT OF COMMERCE

National Oceanic and Atmospheric Administration

[I.D. 071406F]

RIN 0648-AU28

Fisheries of the Caribbean, Gulf of Mexico, and South Atlantic; South Atlantic Snapper Grouper Fishery Off the Southern Atlantic States; Amendment 14

AGENCY: National Marine Fisheries Service (NMFS), National Oceanic and Atmospheric Administration (NOAA), Commerce.

ACTION: Notice of intent to prepare a draft environmental impact statement; supplement; request for comments.

SUMMARY: The South Atlantic Fishery Management Council (Council) is evaluating in a draft environmental impact statement (DEIS) the environmental impacts of establishing Marine Protected Areas (MPAs) for deepwater snapper grouper species in the South Atlantic exclusive economic zone (EEZ). This notice is intended to supplement a notice published January 31, 2002, announcing the preparation of a DEIS for Amendment 14 to the Fishery Management Plan (FMP).

DATES: Comments must be received by August 21, 2006.

ADDRESSES: Copies of the alternatives should be requested from: Kim Iverson, Public Information Officer, South Atlantic Fishery Management Council, One Southpark Circle, Suite 306, Charleston, SC 29407-4699, fax: 843-769-4520; e-mail: kim.iverson@safmc.net.

Comments should be sent to Mark Sramek, Southeast Regional Office, NMFS, 263 13th Avenue South, St. Petersburg, FL 33701, phone: 727-824-5311; fax: 727-824-5308. Comments may also be submitted by email to Mark.Sramek@noaa.gov.

FOR FURTHER INFORMATION CONTACT: Kim Iverson, Public Information Officer, South Atlantic Fishery Management Council; toll free 1-866-SAFMC-10 or 843-571-4366; e-mail: kim.iverson@safmc.net.

SUPPLEMENTARY INFORMATION: The snapper grouper fishery operating in the South Atlantic EEZ is managed under the South Atlantic Snapper Grouper FMP, under the authority of the Magnuson-Stevens Fishery Conservation and Management Act (Magnuson-Stevens Act).

The Council began considering use of MPAs in 1990. The Council has since held three rounds of scoping meetings and one round of informational public hearings intended to seek public input on criteria, siting, and impacts as they relate to MPAs for deepwater snapper grouper species. The Council decided to consider the implementation of deepwater MPAs in Amendment 14 to the Snapper Grouper FMP. The Notice of Intent (NOI) for the DEIS associated with FMP Amendment 14 was published in the Federal Register on January 31, 2002 (67 FR 4696). This NOI supplement is intended to update the public on progress of Amendment 14 and the DEIS. The Council has refined the purpose and need for MPAs and has outlined a range of alternatives for inclusion in the DEIS.

The primary purpose of implementing these MPAs is to employ a collaborative approach to identify MPA sites with the potential to protect a portion of the population and habitat of long-lived, deepwater snapper grouper species (speckled hind, snowy grouper, warsaw grouper, yellowedge grouper, misty grouper, golden tilefish, and blueline tilefish) from directed fishing pressure to achieve a more natural sex ratio, age, and size structure within the proposed MPAs, while minimizing adverse social and economic effects. MPAs are the most effective fishery management tool that allows deepwater snapper grouper species to reach their natural size and age, protects spawning locations, and provides a refuge for early developmental stages of fish species. The Council recognizes that there may be positive impacts from the designation of the proposed sites to non-deepwater species that may co-occur, such as vermilion snapper, red porgy, and gag.

The Council defines MPAs within its jurisdiction as a network of specific areas of marine environments reserved and managed for the primary purpose of aiding in the recovery of overfished stocks and to insure the persistence of healthy fish stocks, fisheries, and habitats. Such areas may be over natural or artificial bottom and may include prohibition of harvest indefinitely (i.e., an undefined time period) to accomplish needed conservation goals.

The following types of actions are available to the Council for designating MPAs. The Council is focusing on Type 2 management actions to protect deepwater snapper grouper species in Amendment 14.

Type 1 - Permanent closure/no-take

Type 2 - Permanent closure/some take allowed

Type 3 - Limited duration closure/no-take

Type 4 - Limited duration closure/some take allowed

The Council is also considering implementing measures to provide for on-site enforcement capabilities, including the utilization of vessel monitoring system equipment on specific categories of fishing vessels. The Council intends to request that NMFS implement regulations to prohibit the use of shark bottom longline gear within the MPAs proposed in this amendment.

The full suite of alternatives currently being considered for inclusion in the DEIS for FMP Amendment 14 can be obtained from the Council (see ADDRESSES for contact information).

A Federal Register notice will announce the availability of the DEIS associated with the amendment, as well as a 45-day public comment period, pursuant to regulations issued by the Council on Environmental Quality for implementing the National Environmental Policy Act and to NOAA's Administrative Order 216-6. The Council will consider public comments received on the DEIS in developing the FEIS, and before voting to submit the final amendment to NMFS for Secretarial review, approval, and implementation. NMFS will announce in the Federal Register the availability of the final amendment and FEIS for public review during the Secretarial review period and will consider all public comments prior to final agency action to approve, disapprove, or partially approve the final amendment.

Authority: 6 U.S.C. 1801 et seq.

Dated: July 14, 2006.
Alan D. Risenhoover,
Acting Director, Office of Sustainable Fisheries, National Marine Fisheries Service.

[FR Doc. E6-11552 Filed 7-19-06; 8:45 am]

BILLING CODE 3510-22-S